DEPARTMENT OF THE INTERIOR

Fish and Wildlife Service

[FWS-HQ-MB-2023-N038; FF09M21200-234-FXMB1231099BPP0; OMB Control Number 1018-0022]

Agency Information Collection Activities; Submission to the Office of Management and Budget; Federal Fish and Wildlife Permit Applications and Reports—Migratory Birds

AGENCY: Fish and Wildlife Service, Interior.

ACTION: Notice of information collection; request for comment.

SUMMARY: In accordance with the Paperwork Reduction Act of 1995, we, the U.S. Fish and Wildlife Service (Service), are proposing to renew an existing information collection, with revisions.

DATES: Interested persons are invited to submit comments on or before July 13, 2023.

ADDRESSES: Written comments and recommendations for the proposed information collection should be submitted within 30 days of publication of this notice at https://www.reginfo.gov/public/do/PRAMain. Find this particular information collection by selecting “Currently under Review—Open for Public Comments” or by using the search function. Please provide a copy of your comments to the Service Information Collection Clearance Officer, U.S. Fish and Wildlife Service, MS: PRB (JAO/3W), 5275 Leesburg Pike, Falls Church, VA 22041-3803 (mail); or by email to Info_Coll@fws.gov. Please reference “1018-0022” in the subject line of your comments.

FOR FURTHER INFORMATION CONTACT: Madonna L. Baucum, Service Information Collection Clearance Officer, by email at Info_Coll@fws.gov, or by telephone at (703) 358-2503. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Paperwork Reduction Act (PRA; 44 U.S.C. 3501 et seq.) and its implementing regulations in the Code of Federal Regulations (CFR) at 5 CFR 1320, all information collections require approval under the PRA. We may not conduct or sponsor and you are not required to respond to a collection of information unless it displays a currently valid OMB control number.

On May 17, 2022, we published in the Federal Register (87 FR 29872) a notice of our intent to request that OMB approve this information collection. In that notice, we solicited comments for 60 days, ending on July 18, 2022. In a continued effort to increase public awareness of, and participation in, our public commenting processes associated with information collection requests, the Service also published the Federal Register notice on Regulations.gov (Docket No. FWS-HQ-MB-2022-0056) to provide the public with an additional method to submit comments (in addition to the typical Info_Coll@fws.gov email and U.S. mail submission methods). We received the following comments in response to that notice:

Comment 1: Electronic comment received May 17, 2022, via Regulations.gov (FWS-HQ-MB-2022-0056-0002) from Jean Publiee.

Agency Response to Comment 1: The commenter did not address the information collection requirements. No response is required.

Comment 2: Anonymous electronic comment received July 18, 2022, via Regulations.gov (FWS-HQ-MB-2022-0056-0003).

Agency Response to Comment 2: The commenter did not address the information collection requirements. No response is required.

Comment 3: Electronic comment received July 18, 2022 via Regulations.gov (FWS-HQ-MB-2022-0056-0004) from Laura Bies, on behalf of the Ornithological Council. The commenter explained that their organization works with many individuals that must secure Migratory Bird Treaty Act (MBTA) permits from the U.S. Fish and Wildlife Service. Given this, ensuring that the process of applying for, renewing, and amending MBTA permits is efficient and predictable is of the utmost concern to the commenter. They commented about slow response times on permit processing and helpdesk inquiries and encouraged the agency to continue working to reduce processing times, including hiring and training additional permit staff, as needed. In addition, they urged the agency to move forward quickly with digitization of section E in the ePermits system. They also expressed that while the official policy allows permittees to continue their work without their renewal in hand if they submit a renewal request 30 days or more before permit expiration, they will feel more confident if they have written evidence of this from the agency. Another concern of the commenter was regarding internal USFWS guidance that resulted in regional permit offices requiring that MBTA permits for import/export list each individual shipment in detail.

Agency Response to Comment 3: We shared these comments with the permits and ePermits teams who are already working to address many of the commenter's concerns. Between a recent influx of funding to improve the ePermits system and a push to hire more staff, we expect that wait times for permits and responses will continue to decrease significantly over the next few years. Regarding the comment about the written evidence of the authorization to continue activities if submitting the request 30 days or more before your permit expires, we are sending that language out with the automatic renewal notice generated by the ePermits system (sent 60 days before your permit expiration date). If the permittee wishes to print this out and keep it with their permit, along with evidence of their renewal submission date (e.g., a screenshot of the permittee's dashboard showing they submitted their renewal application during the 30-day window), this should be sufficient to demonstrate the permittee's authority to continue their activities legally, should that come into question.

Comments regarding the import/export permits were referred to the Service's International Affairs (IA) program for a response in the Supporting Statement for their collection, since those comments pertain to an IA permit and process. A copy of the International Affairs program response to that concern is as follows:

“We are pleased to see that the commenter is in support of our ePermits system with the acknowledgement that we continue to build and improve the system. We continue to work to improve our responsiveness to our customers' questions. For Wild Bird Conservation Act (WBCA; 16 U.S.C. 4901-4916) permits, the Service's position is that this exemption is only allowed for those specimens that are accessioned into a museum or scientific institution's collection. Specimens that are subject to collection under a researcher's activities and are not accessioned into an institution's collection would not be eligible for this exemption and the researcher should apply for the necessary import permits.

Migratory birds require authorization to import and export under the MBTA; bald and golden eagles require authorization to import and export under the Bald and Golden Eagle Protection Act (BGEPA; 16 U.S.C. 668 et seq). Some of those migratory birds are listed under the Convention on International Trade in Endangered Species of Wild Fauna and Flora (CITES) and by association, the WBCA. Museums or scientific institutions that hold a Certificate for Scientific Exchange (COSE) may continue to use this certificate for activities that involve specimens that are accessioned into a museum or scientific institution's collection as they always have done. This certificate authorizes activities under the WBCA as well. As conditioned on this certificate, activities under the MBTA and BGEPA are not authorized and require separate permits exclusive from the CITES/WBCA portion of their activities. Those permits are issued by the Regional Directors through the Migratory Bird Permit Offices. The COSE certificate only requires that the institution's assigned code and the foreign institution's assigned code must appear on the Customs Declaration label over the name of the sending official. Specimens that are subject to collection under a researcher's activities and are not accessioned into an institution's collection would not be able to use the COSE and the researcher should apply for the necessary import or export permits under CITEs and the WBCA.

For CITES permit endorsements, Resolution Conf. 12.3 (Rev CoP19) provides that “export permits and re-export certificates be endorsed, with quantity, signature, and stamp, by an inspecting official, such as Customs, in the export endorsement block of the document. If the export document has not been endorsed at the time of export, the Management Authority of the importing country should liaise with the exporting country's Management Authority, considering any extenuating circumstances or documents, to determine the acceptability of the document”. As this is a regulatory requirement and recommendation under a CITES resolution, the commenter has continued to experience barriers to obtaining the required endorsements; consequently, they submitted a petition requesting we eliminate this requirement from our regulations. These regulations are currently being updated at this time and may address the Ornithological Society's concerns. For application Form 3-200-47, based on our discussion above, this change would preclude researchers that obtain dead specimens that are not accessioned into a museum or scientific institution no means of applying for a permit. Therefore, we will not make this change.”

On October 28, 2022, we published in the Federal Register (87 FR 65233) a notice to extend the comment period for this renewal. In that notice, we solicited comments for an additional 60 days, ending on December 27, 2022. In a continued effort to increase public awareness of, and participation in, our public commenting processes associated with information collection requests, the Service also published the Federal Register notice on Regulations.gov (Docket No. FWS-HQ-MB-2022-0056) to provide the public with an additional method to submit comments (in addition to the typical Info_Coll@fws.gov email and U.S. mail submission methods). We received the following comments in response to that notice:

Comment 4: Electronic comment received October 29, 2022, via Regulations.gov (FWS-HQ-MB-2022-0056-0006) from Jean Publiee. The commenter did not address the information collection requirements.

Agency Response to Comment 4: The commenter did not address the information collection requirements. No response is required.

Comment 5: Anonymous electronic comment received December 26, 2022, via Regulations.gov (FWS-HQ-MB-2022-0056-0007). The commenter did not address the information collection requirements.

Agency Response to Comment 5: The commenter did not address the information collection requirements. No response is required.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The U.S. Fish and Wildlife Service's regional migratory bird permit offices use information that we collect on permit applications to determine the eligibility of applicants for permits requested in accordance with the criteria in various Federal wildlife conservation laws and international treaties, including:

(1) Migratory Bird Treaty Act (16 U.S.C. 703 et seq.).

(2) Lacey Act (18 U.S.C. 42; 16 U.S.C. 3371 et seq.).

(3) Bald and Golden Eagle Protection Act (16 U.S.C. 668 et seq.).

Service regulations implementing these statutes and treaties are in chapter I, subchapter B of title 50 of the Code of Federal Regulations (CFR), parts 10, 13, 20, and 21. These regulations stipulate general and specific requirements that, when met, allow us to issue permits to authorize activities that are otherwise prohibited.

Generally, with the exception of forms 3-186 and 3-186a, all Service migratory bird permit application and report forms are in the 3-200 and 3-202 series of forms, each tailored to a specific activity based on the requirements for specific types of permits. We collect standard identifier information for all permits. The information that we collect on applications and reports is the minimum necessary for us to determine if the applicant meets/continues to meet issuance requirements for the particular activity.

In accordance with Federal regulations at 50 CFR 13.12, we collect standard identifier information for all permit applications, such as:

• Applicant's full name and address (street address, city, county, State, and zip code; and mailing address if different from street address); home and work telephone numbers; and a fax number and email address (if available), and

—If the applicant resides or is located outside the United States, an address in the United States, and, if the applicant is applying for permission to conduct commercial activities, the name and address of his or her agent that is located in the United States; and

—If the applicant is an individual, the date of birth, occupation, and any business, agency, organizational, or institutional affiliation associated with the wildlife or plants to be covered by the license or permit; or

—If the applicant is a business, corporation, public agency, or institution, the tax identification number; description of the business type, corporation, agency, or institution; and the name and title of the person responsible for the permit (such as president, principal officer, or director);

• Location where the requested permitted activity is to occur or be conducted;

• Certification containing the following language:

“I hereby certify that I have read and am familiar with the regulations contained in title 50, part 13, of the Code of Federal Regulations and the other applicable parts in subchapter B of chapter I of title 50, Code of Federal Regulations, and I further certify that the information submitted in this application for a permit is complete and accurate to the best of my knowledge and belief. I understand that any false statement herein may subject me to suspension or revocation of this permit and to the criminal penalties of 18 U.S.C. 1001.”

• Requested effective date of permit (except where issuance date is fixed by the part under which the permit is issued);

• Current date;

• Signature of the applicant;

• Such other information as the Director determines relevant to the processing of the application, including but not limited to

—Information on the environmental effects of the activity consistent with 40 CFR 1506.5 and Departmental procedures at 516 DM 8; and

—Additional information required on applications for other types of permits may be found by referring to table 1 to paragraph (b) in 50 CFR 13.12.

Standardization of general information common to the application forms makes the filing of applications easier for the public, as well as expediting our review of applications. The information that we collect on applications and reports is the minimum necessary for us to determine whether the applicant meets/continues to meet issuance requirements for the particular activity.

Proposed Revisions to This Information Collection

With this submission, we are proposing the following revisions to the existing information collection:

Revisions to Section E in Permit Applications—In 2020, the Service implemented a new automated permit application called ePermits. The ePermits system allowed the Service to move towards a streamlined permitting process to reduce the information collection burden on the public, particularly small businesses. Public burden reduction is a priority for the Service; the Assistant Secretary for Fish and Wildlife and Parks; and senior leadership at the Department of the Interior. The intent of the ePermits system is to fully automate the permitting process to improve the customer experience and to reduce time burden on respondents. This system enhances the user experience by allowing users to enter data from any device that has internet access, including personal computers, tablets, and smartphones. It also links the permit applicant to the Pay.gov system for payment of the associated permit application fee.

Users of the ePermits system register for and use an account which will then automatically populate the forms they complete with the required identification information. The system eliminates the need for applicants to enter their information multiple times when they apply for separate permits, thereby reducing burden on the applicant. The account registration process will also provide private sector users an opportunity to self-identify as a small business, which will enable the Service to more accurately report burden associated with information collection requirements placed on them.

Section E of each permit application is customized based on the permit type.

At this time, the ePermits system is unable to fully automate section E of the permit application process. As a result of challenges with the development of forms within the ePermits system, we do not have a timeline for full automation of section E. However, we anticipate beginning the digitization of the report forms contained in this collection during 2023 and believe that the digitization of section E on application forms should be finalized by fiscal year 2024, as funding and resources become available.

We do not anticipate changes to the questions within section E of each application form. We also do not plan to make changes to the annual report forms contained in this collection. However, we do anticipate proposing the following changes to certain permit application forms contained in this collection, to include:

• Applicants will be able to select the type of business they manage (for-profit, small business, farm, not-for-profit, or government entity).

• Requesting businesses using ePermits to provide email addresses for both the principal officer and the business.

• The signature block will be replaced by with electronic submission of the online application.

• The ePermits system will also:

—Allow a user to apply on behalf of another individual or business, as a new way to identify if a consultant is applying for a client.

—Ask for the name of the authorized individual to include on the permit and allow a business to nickname their applications.

—Ask the applicant to identify the location where the majority of the authorized activities will occur.

—Ask the applicant to identify the physical address of the preparer of application.

—Ask the applicant to identify if they are tax exempt.

—Prompt the applicant to provide their preferred contact method.

—Prompt the applicant to describe changes associated with amendments or renewals (with changes) of their permit.

—Prompt the applicant to opt in or out of releasing their information for all applications except migratory bird rehabilitation permits (businesses are automatically opted in).

—Prompt the applicant to provide a parent permit number, which allows the ePermits System to direct the user to the correct version of their permit for renewals or amendments to a permit.

Falconry Program—We propose to modify FWS Form 3-186A to update the field “USFWS Band Number” to say “USFWS/State/Tribe/Territory band number” and to update the field ”USFWS Permit Number” to say “USFWS/State/Tribe/Territory permit number.”

Migratory Bird Permit Program Service Manual Chapters—With this submission, we will seek OMB approval of the Migratory Bird Permit Program Handbook (Handbook) and associated Service Manual chapters at 724 FW 1 (“Overview of Migratory Bird Permitting”) and 724 FW 2 (“Migratory Bird Permits”), all of which contain information collections. The Handbook provides detailed procedures and other operational information to implement the Service Manual chapters in part 724 (“Migratory Bird Permits”) and more generally in part 720 (“Migratory Bird Management”).

New and existing information collections contained in the Handbook requiring OMB approval include the following:

• Renewal procedures associated with the reauthorization of an existing permit (with or without changes to the conditions);

• Reinstatement procedures associated with the reauthorization of an existing permit (with or without changes to the conditions);

• Discontinuance procedures at the permittee's request to discontinue a valid permit;

• Solicitation of appropriate documentation from entities authorized to act on behalf of State, local, Tribal, and Federal government agencies to verify their exempt status for fee exemption purposes;

• Fee waiver request process as outlined in 50 CFR 13.11(d)(3)(iii);

• Requests for reconsideration of a denial, partial denial, suspension, or revocation of a permit (requiring submission of a written request with the required information in 50 CFR 13.29(b) within 45 days after the permit decision); and

• Appeals of reconsideration request decisions (requiring the permittee submit a written request to the Regional Director (see 50 CFR 13.29(e)) within 45 days of the reconsideration decision).

Information Collection Requirements for Double Crested Cormorants—With this submission, we are proposing to merge the currently approved information collections from OMB Cont. No. 1018-0175, “Federal Fish and Wildlife Permit Applications and Reports—Special Double-Crested Cormorants; 50 CFR 21” (exp. 01/31/2024), into this collection. We will discontinue 1018-0175 upon OMB approval of this submission. The following information collection requirements are being transferred:

FWS Form 3-200-90, Special Double-Crested Cormorant Permit Application (and Amendments, as Appropriate)

This new permit would be available only to State or Tribal fish and wildlife agencies responsible for migratory bird management on lands and in waters managed by those agencies within their jurisdictions. Under this permit, the Service would authorize State and Tribal fish and wildlife agencies to conduct lethal take to reduce conflicts involving depredation at State- and Tribal-owned or operated aquaculture facilities (including hatcheries); impacts to health and human safety; impacts to threatened and endangered species (as listed under the Endangered Species Act and listed species identified in State- or Tribal-specific legislation as threatened or endangered) or those listed as Species of Greatest Conservation Need in State Wildlife Action Plans; damage to State- or Tribal-owned property and assets; and depredations of wild and publicly stocked fish managed by State fish and wildlife agencies or federally recognized Tribes and accessible to the public or all Tribal members. Take activities to prevent depredation on aquatic Species of Greatest Conservation Need may occur only in natural or public waters.

Any State or Tribal fish and wildlife agency wishing to obtain a permit must submit FWS Form 3-200-90, “Federal Fish and Wildlife Permit Application Form—Special Double-Crested Cormorant,” to the appropriate Regional Director, containing the general information and certification required by 50 CFR 13.12(a). All Service permit applications are in the 3-200 series of forms, each tailored to a specific activity based on the regulatory requirements for specific types of permits. Sections A through D on the applications are the same for all permit types. These sections collect standard identifier information, such as the name and address, telephone and fax numbers, tax identification number, and email address for the applicant. Regulations at 50 CFR 13.12, “General information requirements on applications for permits,” require submission of this information. Standardizing general information common to the application forms makes filing of applications easier for the public as well as expedites our review of applications. We use this information to establish a permit record that is unique to the applicant. These annual permits, managed by calendar year, allow for alignment with permit processing cycles and the need to evaluate allocation at the beginning of a calendar year.

Section E of each application collects information specific to the activity the applicant wishes to conduct, as well as information concerning:

(1) A brief description of the State's or Tribe's double-crested cormorant conflicts, including physical locations and types of conflict;

(2) A detailed description of the nonlethal methods (i.e., active hazing, passive hazing, habitat management, and changes in management practices) that the applicant has implemented or will implement, and how these activities will address one or more of the issues;

(3) The requested annual take of double-crested cormorants by life-stage, including eggs and nests;

(4) A description of long-term plans to eliminate or significantly reduce continued need to take double-crested cormorants;

(5) A statement indicating that the State or Tribe will inform and brief all employees and subpermittees of the requirements of these regulations and permit conditions;

(6) A list of all subpermittees who may conduct activities under the Special Double-Crested Cormorant Permit, including their names, addresses, and telephone numbers; and

(7) The name and telephone number of the individual in the applicant's agency who will oversee the double-crested cormorant management activities authorized under the permit.

FWS Form 3-202-56, Annual Report—Special Double-Crested Cormorant

In conjunction with issuance of the Special Double-Crested Cormorant permit, we will require the permittee submit Form 3-202-56, “Annual Report—Special Double-Crested Cormorant,” detailing activities, including the date, numbers, and locations and life stages of birds, eggs, and nests taken and nonlethal techniques utilized, by January 31 for activities conducted during the preceding calendar year. The Service will require an annual report by the State or Tribe prior to any permit renewal. We will collect the following information via Form 3-202-56 to ensure the applicant remains in compliance with the terms of their permit:

(1) Permittee contact information, permit number, permit calendar year, and permit report due date;

(2) Description of non-lethal techniques utilized;

(3) Month and location of activity;

(4) Purpose;

(5) Numbers of birds killed, nests oiled, and/or nests destroyed;

(6) Final Disposition (what they did with the birds, eggs, carcasses [e.g., buried; incinerated; euthanized and donated]); and

(7) Take of non-target birds species, including numbers of birds.

Recordkeeping—Any State or Tribal agency, when exercising the privileges of this permit, must keep records of all activities, including those of subpermittees, carried out under the authority of the special permit.

Designation of Subpermittees—States and Tribes may designate subpermittees who must operate under the conditions of the permit. Subpermittees must be at least 18 years of age and can be employees of State and Tribal fish and wildlife agencies, U.S. Department of Agriculture-Wildlife Services employees, and employees of other Federal, State, or Tribal agencies or private companies licensed to conduct wildlife damage abatement. The permittee must provide the Service with the name of any subpermittees who will be conducting activities under their permit.

Landowner Notifications—If a State or Tribe must enter private property to access State and Tribal lands or waters where take is approved in their permit, the State or Tribe must obtain authorization from the private property owner.

The public may request copies of any form or document contained in this information collection by sending a request to the Service Information Collection Clearance Officer in ADDRESSES, above.

Title of Collection: Federal Fish and Wildlife Permit Applications and Reports—Migratory Birds; 50 CFR 10, 13, 20, and 21.

OMB Control Number: 1018-0022.

Form Numbers: FWS Forms 3-186, 3-186A, 3-200-6 through 3-200-9, 3-200-10a through 3-200-10c, 3-200-10e, 3-200-10f, 3-200-12 through 3-200-13, 3-200-67, 3-200-79, 3-200-81, 3-202-1 through 3-202-10, 3-202-12, 3-202-17, 3-200-90 (new), and 3-202-56 (new).

Type of Review: Revision of an existing information collection.

Respondents/Affected Public: Individuals; private sector (including zoological parks, museums, universities, scientists, taxidermists, businesses, and utilities); and State, local, and Tribal governments.

Respondent's Obligation: Required to obtain or retain a benefit.

Frequency of Collection: On occasion for applications; annually or on occasion for reports.

Total Estimated Annual Nonhour Burden Cost: $639,715 (primarily associated with application processing fees in OMB Control No. 1018-0022).

OMB control No. | Average number of annual respondents | Average number of annual responses | Average completion time per response | Estimated annual burden hours
1018-0022 | 30,578 | 56,058 | Varies from 15 minutes to 260 hours | 404,463
1018-0175 | 700 | 700 | Varies from 1 minute to 17 hours | 4,563
Totals | 31,278 | 56,758 |  | 409,026

An agency may not conduct or sponsor and a person is not required to respond to a collection of information unless it displays a currently valid OMB control number.

The authority for this action is the Paperwork Reduction Act of 1995 (44 U.S.C. 3501 et seq.).

Madonna Baucum,
Information Collection Clearance Officer, U.S. Fish and Wildlife Service.

[FR Doc. 2023-12602 Filed 6-12-23; 8:45 am]

BILLING CODE P